DEPARTMENT OF ENERGY

Federal Energy Regulatory Commission

[Docket No. ES00-27-000, et al.]

Consumers Energy Company, et al.; Electric Rate and Corporate Regulation Filings

May 8, 2000.

Take notice that the following filings have been made with the Commission:

1. Consumers Energy Company

[Docket No. ES00-27-000]

Take notice that on April 27, 2000, Consumers Energy Company submitted an application pursuant to Section 204 of the Federal Power Act seeking authorization to issue and sell short-term securities in an amount not to exceed $900 million at any one time. The authorization requested would be for the period July 1, 2000, through June 30, 2002.

Comment date: May 29, 2000, in accordance with Standard Paragraph E at the end of this notice.

2. Consumers Energy Company

[Docket No. ES00-28-000]

Take notice that on April 27, 2000, Consumers Energy Company (Consumers) filed an application pursuant to Section 204 of the Federal Power Act seeking authorization to issue and sell for the period beginning July 1, 2000, through June 30, 2002, not more than:

(1) $1.05 billion of long-term securities, of which up to $250 million would be for purposes of refinancing or refunding existing long-term securities and up to $800 million would be for general corporate purposes, and

(2) $500 million of first mortgage bonds to be issued solely as security for other long-term securities.

Consumers also requests a waiver of the Commission's competitive bidding and negotiated placement requirements of 18 CFR 34.2 for certain securities to be issued pursuant to authorization requested in this docket.

Comment date: May 29, 2000, in accordance with Standard Paragraph E at the end of this notice.

3. Canal Electric Company

[Docket No. ES00-29-000]

Take notice that on April 28, 2000, Canal Electric Company filed an application pursuant to Section 204 of the Federal Power Act, seeking authorization to issue short-term debt in an amount not to exceed $60 million during a two year period.

Comment date: May 29, 2000, in accordance with Standard Paragraph E at the end of this notice.

4. Commonwealth Electric Company

[Docket No. ES00-30-000]

Take notice that on April 28, 2000, Commonwealth Electric Company filed an application under Section 204 of the Federal Power Act, seeking authorization to issue short-term debt in an amount not to exceed $100 million during a two-year period.

Comment date: May 29, 2000, in accordance with Standard Paragraph E at the end of this notice.

5. Cambridge Electric Light Company

[Docket No. ES00-31-000]

Take notice that on April 28, 2000, Cambridge Electric Light Company filed an application pursuant to Section 204 of the Federal Power Act, seeking authorization to issue short-term debt in an amount not to exceed $60 million during a two year period.

Comment date: May 29, 2000, in accordance with Standard Paragraph E at the end of this notice.

6. Boston Edison Company

[Docket No. ES00-32-000]

Take notice that on April 28, 2000, Boston Edison Company filed an application pursuant to Section 204 of the Federal Power Act, seeking authorization to issue short-term debt in an amount not to exceed $350 million during a two year period.

Comment date: May 29, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-12211 Filed 5-15-00; 8:45 am]

BILLING CODE 6717-01-P